DEPARTMENT OF THE INTERIOR

National Park Service

[N6592; NPS-WASO-NAGPRA-NPS0041197; PPWOCRADN0-PCU00RP14.R50000]

Notice of Intended Repatriation: U.S. Department of the Interior, National Park Service, Chaco Culture National Historical Park, Nageezi, NM

AGENCY: National Park Service, Interior.

ACTION: Notice.

SUMMARY: In accordance with the Native American Graves Protection and Repatriation Act (NAGPRA), the U.S. Department of the Interior, National Park Service, Chaco Culture National Historical Park (CHCU) intends to repatriate a certain cultural item that meets the definition of a sacred object and that has a cultural affiliation with the Indian Tribes or Native Hawaiian organizations in this notice.

DATES: Repatriation of the cultural item in this notice may occur on or after December 17, 2025.

ADDRESSES: Send additional, written requests for repatriation of the cultural item in this notice to Denise Robertson, Superintendent, Chaco Culture National Historical Park, P.O. Box 220, 1808 CR7950, Nageezi, NM 87037, email denise_robertson@nps.gov.

SUPPLEMENTARY INFORMATION: This notice is published as part of the National Park Service's administrative responsibilities under NAGPRA. The determinations in this notice are the sole responsibility of the Superintendent, CHCU, and additional information on the determinations in this notice, including the results of consultation, can be found in the summary or related records.

Abstract of Information Available

A total of one cultural item has been requested for repatriation. The one sacred object is a quartz crystal. The large quartz crystal was discovered by park preservation staff during inspection of backfill and drainage at the site known as Talus Unit 1 (LA2470, also known as Bc 257 or 29SJ1930). Based on frequent staff activity in the area, the crystal was likely placed in the room between November 28, 2012 and December 3, 2012. The item was removed from the location of its discovery on December 3, 2012 but was not recognized as an item of importance to descendant communities at the time. It is not believed that the crystal originated within CHCU boundaries from either geological or archeological deposits. The item was identified as a sacred object to the Pueblo of San Felipe during a visit by tribal officials to the museum repository. The cultural item listed is not known to have been treated with a hazardous substance.

Determinations

CHCU has determined that:

• The one sacred object described in this notice is a specific ceremonial object needed by a traditional Native American religious leader for present-day adherents to practice traditional Native American religion, according to the Native American traditional knowledge of a lineal descendant, Indian Tribe, or Native Hawaiian organization.

• There is a reasonable connection between the cultural item described in this notice and the Pueblo of San Felipe, New Mexico.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after December 17, 2025. If competing requests for repatriation are received, CHCU must determine the most appropriate requestor prior to repatriation. Requests for joint repatriation of the cultural item are considered a single request and not competing requests. CHCU is responsible for sending a copy of this notice to the Indian Tribes and Native Hawaiian organizations identified in this notice and to any other consulting parties.

Authority: Native American Graves Protection and Repatriation Act, 25 U.S.C. 3004 and the implementing regulations, 43 CFR 10.9.

Dated: September 18, 2025.
Melanie O'Brien,
Manager, National NAGPRA Program.

[FR Doc. 2025-19953 Filed 11-14-25; 8:45 am]

BILLING CODE 4312-52-P